DEPARTMENT OF HEALTH AND HUMAN SERVICES

National Institutes of Health

Center for Scientific Review; Amended Notice of Meeting

Notice is hereby given of a change in the meeting of the Cancer Immunopathology and Immunotherapy Study Section, October 03, 2013, 08:00 a.m. to October 03, 2013, 06:00 p.m., Washington Marriott at Metro Center, 775 12th Street NW., District of Columbia, DC 20005 which was published in the Federal Register on September 10, 2013, 78 FR 55269.

The meeting will be held at the Hyatt Regency Bethesda, 7400 Wisconsin Avenue, Bethesda, MD 20814, on November 5, 2013, starting at 08:00 a.m. and ending at 06:00 p.m. The meeting is closed to the public.

Dated: October 23, 2013.
David Clary,
Program Analyst, Office of Federal Advisory Committee Policy.

[FR Doc. 2013-25501 Filed 10-28-13; 8:45 am]

BILLING CODE 4140-01-P